DEPARTMENT OF ENERGY

Federal Energy Regulatory Commission

Notice Announcing Filing Priority for Preliminary Permit Applications

January 28, 2011.

| Project No.
FFP Missouri 13, LLC | 13763-000
Grays Hydro, LLC | 13772-000

On January 27, 2011, the Commission held a drawing to determine priority between two competing preliminary permit applications with identical filing times. In the event that the Commission concludes that neither of the applicants' plans is better adapted than the other to develop, conserve, and utilize in the public interest the water resources of the region at issue, the priority established by this drawing will serve as the tiebreaker. Based on the drawing, the order of priority is as follows:

1. FFP Missouri 13, LLC—Project No. 13763-000

2. Grays Hydro, LLC—Project No. 13772-000

Nathaniel J. Davis, Sr.,
Deputy Secretary.

[FR Doc. 2011-2619 Filed 2-4-11; 8:45 am]

BILLING CODE 6717-01-P